Title 3—

The President

Proclamation 10119 of November 13, 2020

American Education Week, 2020

By the President of the United States of America

A Proclamation

Education empowers students of all ages to reach their full potential and plays a fundamental role in developing a strong workforce and informed citizenry. Our Nation is currently enduring an unprecedented academic year, but our commitment to the safe reopening of schools and the expansion of school choice programs nationwide remains steadfast. As we celebrate the 99th anniversary of American Education Week, I encourage States, districts, and school boards across the country to embrace creative, personalized approaches to learning, and to ensure that students are at the center of all of their educational endeavors.

This year, students, teachers, and administrators have faced extraordinary challenges. Nevertheless, we must recognize that our children's physical, mental, and emotional well-being depend so much on their access to schools. Studies show that children are at very low risk of serious illness from the coronavirus, while the harms of delaying their return to in-person instruction are grave. As President, I have taken unprecedented action to ensure that classrooms are safe so that students can return to school and resume learning amongst their peers. My Administration fought for billions of dollars in funding for local school districts for personal protective equipment, increased cleaning services, and other critical resources and is providing States with millions of revolutionary point-of-care tests that deliver highly accurate results in minutes. Whether in the classroom or at home, I am committed to fighting for whatever is needed to ensure quality education for every American student.

As a result of thousands of schools transitioning to some form of remote learning, parents are gaining expanded insight into our Nation's inadequate education system. For too many families, the pandemic has served as a stark reminder that an antiquated, agenda-driven, one-size-fits-all approach to education simply does not work. Instead, parents desire greater control over how their tax dollars are spent, and American families demand more options and more autonomy over their children's education. Whether they choose public, private, magnet, charter, parochial, or home schools, I am fighting to expand every family's choices in our Nation's education system. Last year, I signed the Secure Act to broaden how families could spend the funds in tax-free college savings accounts. And just this July, my Administration awarded new funding to the successful DC Opportunity Scholarship Program, so disadvantaged students in our Nation's capital can attend the school of their choice. These actions are part of our continued efforts to empower parents and encourage educational innovation at the State and local levels, because in the land of the free, a child's zip code should never play any role in determining their educational potential.

During this American Education week, we especially celebrate the teachers, community leaders, parents, and advocates that shape the futures of our country's children. They play an essential and powerful role in developing Americans of character who are capable of enhancing our country's culture, society, and economy. As our Nation's teachers and students navigate an unprecedented school year, we must all recommit to providing students with lifelong learning opportunities and supplying them with the tools they need to achieve success.

NOW, THEREFORE, I, DONALD J. TRUMP, President of the United States of America, by virtue of the authority vested in me by the Constitution and the laws of the United States, do hereby proclaim November 15 through November 21, 2020, as American Education Week. I commend our Nation's schools, their teachers and leaders, and the parents of students across this land. And I call on States and communities to support high-quality education to meet the needs of all students.

IN WITNESS WHEREOF, I have hereunto set my hand this thirteenth day of November, in the year of our Lord two thousand twenty, and of the Independence of the United States of America the two hundred and forty-fifth.

[FR Doc. 2020-25572

Filed 11-17-20; 8:45 am]

Billing code 3295-F1-P